DEPARTMENT OF TRANSPORTATION

Federal Aviation Administration

14 CFR Part 39

[Docket No. 2002-NM-205-AD; Amendment 39-13229; AD 2003-14-10]

RIN 2120-AA64

Airworthiness Directives; Boeing Model 767-200 and -300 Series Airplanes

AGENCY: Federal Aviation Administration, DOT.

ACTION: Final rule; request for comments.

SUMMARY: This amendment adopts a new airworthiness directive (AD), applicable to certain Boeing Model 767-200 and -300 series airplanes. This action requires modification of the wire bundles of the video control center (VCC) of the passenger address and entertainment system, and an operational test if necessary. This action is necessary to prevent chafing of the wire bundles of the VCC against the rudder and/or elevator control cables, which could result in arcing of the wires in the wire bundles and severing of the cables. Severed cables, if combined with an engine-out during takeoff, or a high crosswind during takeoff or landing, could result in reduced controllability of the airplane. This action is intended to address the identified unsafe condition.

DATES: Effective August 4, 2003.

The incorporation by reference of certain publications listed in the regulations is approved by the Director of the Federal Register as of August 4, 2003.

Comments for inclusion in the Rules Docket must be received on or before September 16, 2003.

ADDRESSES: Submit comments in triplicate to the Federal Aviation Administration (FAA), Transport Airplane Directorate, ANM-114, Attention: Rules Docket No. 2002-NM-205-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via fax or the Internet must contain “Docket No. 2002-NM-205-AD” in the subject line and need not be submitted in triplicate. Comments sent via the Internet as attached electronic files must be formatted in Microsoft Word 97 or 2000 or ASCII text.

The service information referenced in this AD may be obtained from Boeing Commercial Airplane Group, P.O. Box 3707, Seattle, Washington 98124-2207. This information may be examined at the FAA, Transport Airplane Directorate, 1601 Lind Avenue, SW., Renton, Washington; or at the Office of the Federal Register, 800 North Capitol Street, NW., suite 700, Washington, DC.

FOR FURTHER INFORMATION CONTACT: Barbara Mudrovich, Aerospace Engineer, Systems and Equipment Branch, ANM-130S, FAA, Seattle Aircraft Certification Office, 1601 Lind Avenue, SW., Renton, Washington 98055-4056; telephone (425) 917-6477; fax (425) 917-6590.

SUPPLEMENTARY INFORMATION: During post-delivery modifications of certain Boeing Model 767-200 and -300 series airplanes, the manufacturer found that the rudder cables and the First Officer's elevator control cables may come in contact with the video control center (VCC) wires, which could result in possible chafing and subsequent arcing of the wires in the wire bundles and severing of the cables. Severed cables, if combined with an engine-out during takeoff, or a high crosswind during takeoff or landing, could result in reduced controllability of the airplane.

Explanation of Relevant Service Information

We have reviewed and approved the following Boeing alert service bulletins:

Service bulletin | Revision level | Date | Model
767-23A0147, including Appendix A | Original | April 6, 2000 | 767-300
767-23A0154 | Original | March 15, 2001 | 767-300
767-23A0155, including Appendix A | Original | March 29, 2001 | 767-300
767-23A0156, including Appendix A | Original | April 19, 2001 | 767-200, -300
767-23A0157 | Original | May 3, 2001 | 767-300

These service bulletins describe procedures for modification of the wire bundles of the VCC of the passenger address and entertainment system. The modification includes, but is not limited to, installation of a wiring shroud and associated hardware between the VCC master control unit wiring and the flight control cables; re-routing of the VCC wire bundles above the flight control pulley box; and replacement of existing clamps with new clamps; as applicable. Service bulletins 767-23A0154 and 767-23A0157 also describe procedures for an operational test after accomplishment of the modification. Accomplishment of the actions specified in the applicable service bulletin is intended to adequately address the identified unsafe condition.

Explanation of Requirements of the Rule

Since an unsafe condition has been identified that is likely to exist or develop on other airplanes of the same type design that may be registered in the United States at some time in the future, this AD is being issued to prevent chafing of the wire bundles of the VCC against the rudder and/or elevator control cables, which could result in arcing of the wires in the wire bundles and severing of the cables. Severed cables, if combined with an engine-out during takeoff, or a high crosswind during takeoff or landing, could result in reduced controllability of the airplane. This AD requires modification of the wire bundles of the VCC of the passenger address and entertainment system. The actions are required to be accomplished in accordance with the applicable service bulletin described previously, except as discussed below.

Difference Between the Service Bulletins and This AD

Although the service bulletins recommend accomplishing the specified actions at the earliest maintenance opportunity when manpower and materials are available, we have determined that such an imprecise compliance time would not address the identified unsafe condition in a timely manner. In developing an appropriate compliance time for this AD, we considered not only the manufacturer's recommendation, but the degree of urgency associated with addressing the subject unsafe condition, the average utilization of the affected fleet, and the time necessary to perform the modification (2 work hours). In light of all of these factors, we find a 6-month compliance time for completing the required actions to be warranted, in that it represents an appropriate interval of time allowable for affected airplanes to continue to operate without compromising safety.

Changes to 14 CFR Part 39/Effect on the AD

On July 10, 2002, the FAA issued a new version of 14 CFR part 39 (67 FR 47997, July 22, 2002), which governs the FAA's airworthiness directives system. The regulation now includes material that relates to altered products, special flight permits, and alternative methods of compliance. Because we have now included this material in part 39, we no longer need to include it in each individual AD; however, this AD identifies the office authorized to approve alternative methods of compliance.

Revised Labor Rate

We have reviewed the figures we have used over the past several years to calculate AD costs to operators. To account for various inflationary costs in the airline industry, we find it necessary to increase the labor rate used in these calculations from $60 per work hour to $65 per work hour. The cost impact information, below, has been revised to reflect this increase in the specified hourly labor rate.

Cost Impact

None of the airplanes affected by this action are on the U.S. Register. All airplanes included in the applicability of this rule currently are operated by non-U.S. operators under foreign registry; therefore, they are not directly affected by this AD action. However, the FAA considers that this rule is necessary to ensure that the unsafe condition is addressed in the event that any of these subject airplanes are imported and placed on the U.S. Register in the future.

Should an affected airplane be imported and placed on the U.S. Register in the future, it would require approximately 2 work hours to accomplish the required modification, at an average labor rate of $65 per work hour. Parts cost would be between $64 and $915 per airplane. Based on these figures, the cost impact of the modification required by this AD would be between $194 and $1,045 per airplane.

Determination of Rule's Effective Date

Since this AD action does not affect any airplane that is currently on the U.S. register, it has no adverse economic impact and imposes no additional burden on any person. Therefore, prior notice and public procedures hereon are unnecessary and the amendment may be made effective in less than 30 days after publication in the Federal Register.

Comments Invited

Although this action is in the form of a final rule and was not preceded by notice and opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2002-NM-205-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action: (1) Is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-14-10 Boeing: Amendment 39-13229. Docket 2002-NM-205-AD.

Applicability: This AD applies to the airplanes listed in Table 1 of this AD, certificated in any category:

Table 1.—Applicability
Model— | As listed in—
767-200, -300 series airplanes | Boeing Alert Service Bulletin 767-23A0156, dated April 19, 2001.
767-300 series airplanes | Boeing Alert Service Bulletins 767-23A0147, dated April 6, 2000; 767-23A0154, dated March 15, 2001; 767-23A0155, dated March 29, 2001; and 767-23A0157, dated May 3, 2001.

Compliance: Required as indicated, unless accomplished previously.

To prevent chafing of the wire bundles of the video control center (VCC) against the rudder and/or elevator control cables, accomplish the following:

Modification

(a) Within 6 months after the effective date of this AD: Modify the wire bundles of the VCC of the passenger address and entertainment system, and do an operational test if applicable, per the Accomplishment Instructions of the applicable Boeing alert service bulletin listed in Table 2 of this AD, as follows:

Table 2.—Service Bulletins
Model | Service bulletin | Revision level | Date
767-300 | 767-23A0147, including Appendix A | Original | April 6, 2000.
767-300 | 767-23A0154 | Original | March 15, 2001.
767-300 | 767-23A0155, including Appendix A | Original | March 29, 2001.
767-200, -300 | 767-23A0156, including Appendix A | Original | April 300 19, 2001.
767-300 | 767-23A0157 | Original | May 3, 2001.

Alternative Methods of Compliance

(b) In accordance with 14 CFR 39.19, the Manager, Seattle Aircraft Certification Office, FAA, is authorized to approve alternative methods of compliance for this AD.

Incorporation by Reference

(c) The actions shall be done in accordance with the applicable Boeing alert service bulletin listed in Table 3 of this AD, as follows:

Table 3.—Service Bulletins
Service bulletin | Date
767-23A0147, including Appendix A | April 6, 2000.
767-23A0154 | March 15, 2001.
767-23A0155, including Appendix A | March 29, 2001.
767-23A0156, including Appendix A | April 19, 2001.
767-23A0157 | May 3, 2001.

This incorporation by reference was approved by the Director of the Federal Register in accordance with 5 U.S.C. 552(a) and 1 CFR part 51. Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(d) This amendment becomes effective on August 4, 2003.

Issued in Renton, Washington, on July 7, 2003.
Ali Bahrami,
Acting Manager, Transport Airplane Directorate, Aircraft Certification Service.

[FR Doc. 03-17693 Filed 7-17-03; 8:45 am]

BILLING CODE 4910-13-P